DEPARTMENT OF LABOR

Employment and Training Administration

[TA-W-62,147]

Information Systems Network, Buckhead, GA; Notice of Termination of Investigation

Pursuant to Section 221 of the Trade Act of 1974, an investigation was initiated on September 17, 2007 in response to a worker petition filed by a company official on behalf of workers at Information Systems Network, Buckhead, Georgia.

The petitioner has requested that the petition be withdrawn. Consequently, the investigation has been terminated.

Signed at Washington, DC, this 28th day of September 2007.
Richard Church,
Certifying Officer, Division of Trade Adjustment Assistance.

[FR Doc. E7-19722 Filed 10-4-07; 8:45 am]

BILLING CODE 4510-FN-P